FEDERAL COMMUNICATIONS COMMISSION

47 CFR Part 90

[WP Docket No. 07-100; PS Docket No. 06-229; WT Docket No. 06-150; FCC 12-61]

4.9 GHz Band

AGENCY: Federal Communications Commission.

ACTION: Correcting amendments.

SUMMARY: This document contains corrections to the final regulations (§ 90.1213(a)), which were published in the Federal Register of Wednesday, August 1, 2012 (77 FR 45503). The regulations related to bandwidths of certain frequencies.

DATES: Effective June 19, 2013.

ADDRESSES: Federal Communications Commission, 445 12th Street SW., Washington, DC 20554.

FOR FURTHER INFORMATION CONTACT: Thomas Eng, Policy and Licensing Division, Public Safety and Homeland Security Bureau, Federal Communications Commission, 445 12th Street SW., Washington, DC 20554, at (202) 418-0019, TTY (202) 418-7233, or via email at Thomas.Eng@fcc.gov.

SUPPLEMENTARY INFORMATION:

Background

The final regulations that are the subject of these corrections are the band plan for the 4940-4990 MHz band. Section 90.1203(a) was amended to change the bandwidth of Channel 14 from five megahertz to one megahertz. The table in § 90.1203(a) was amended to add a bandwidth column, which assigned a bandwidth value to each center frequency and channel number.

Need for Correction

The Federal Register at 77 FR 45507 inadvertently listed a value of “1” for every entry in the bandwidth column of the table in § 90.1213(a). This is incorrect for certain channel numbers because these bandwidths do not conform to the preceding text. This document corrects the final regulations by revising this section to list bandwidths of 5 megahertz for channel numbers 6 through 13.

List of Subjects in 47 CFR Part 90

Communications equipment; Radio.

Federal Communications Commission.
Marlene H. Dortch,
Secretary.

Accordingly, 47 CFR part 90 is corrected by making the following correcting amendments:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), and 332(c)(7).

2. Section 90.1213 is amended by revising paragraph (a) to read as follows:

§ 90.1213 Band plan.

(a) The following channel center frequencies are permitted to be aggregated for channel bandwidths of 5, 10, 15 or 20 MHz as described in paragraph (b) of this section. Channel numbers 1 through 5 and 14 through 18 are 1 MHz bandwidth channels, and channel numbers 6 through 13 are 5 MHz bandwidth channels.

Center frequency (MHz) | Bandwidth (MHz) | Channel numbers
4940.5 | 1 | 1
4941.5 | 1 | 2
4942.5 | 1 | 3
4943.5 | 1 | 4
4944.5 | 1 | 5
4947.5 | 5 | 6
4952.5 | 5 | 7
4957.5 | 5 | 8
4962.5 | 5 | 9
4967.5 | 5 | 10
4972.5 | 5 | 11
4977.5 | 5 | 12
4982.5 | 5 | 13
4985.5 | 1 | 14
4986.5 | 1 | 15
4987.5 | 1 | 16
4988.5 | 1 | 17
4989.5 | 1 | 18

* * * * *

[FR Doc. 2013-14593 Filed 6-18-13; 8:45 am]

BILLING CODE 6712-01-P